DEPARTMENT OF EDUCATION

Office of Safe and Drug-Free Schools; Overview Information; Grant Competition for the Cooperative Civic Education and Economic Education Exchange Program; Notice Inviting Applications for New Awards for Fiscal Year (FY) 2010

Catalog of Federal Domestic Assistance (CFDA) Number: 84.304A.

Dates:

Applications Available: January 20, 2010.

Deadline for Transmittal of Applications: March 8, 2010.

Deadline for Intergovernmental Review: May 5, 2010.

Full Text of Announcement

I. Funding Opportunity Description

Purpose of Program: The Cooperative Civic Education and Economic Education Exchange Program provides grants to improve the quality of civic education and economic education through cooperative civic and economic education exchange programs with emerging democracies.

Note: This competition invites applications that address civic education or economic education. We estimate that one award will be made to an application addressing the absolute priority for civic education and one award will be made to an application that addresses the absolute priority for economic education.

Priorities: This competition includes two absolute priorities and one invitational priority. In accordance with 34 CFR 75.105(b)(2)(iv), the absolute priorities are from section 2345(c) of the Elementary and Secondary Education Act of 1965, as amended (20 U.S.C. 6715(c)).

Absolute Priorities: For FY 2010, there are two absolute priorities, one for civic education, and one for economic education. Under 34 CFR 75.105(c)(3) we consider only applications that meet one of these priorities.

These priorities are:

Absolute Priority 1—Civic Education

Each applicant that proposes a project to carry out a cooperative civic education exchange program must propose to carry out each of the following activities:

(1) Provide to the participants from eligible countries—

(A) Seminars on the basic principles of United States constitutional democracy, including seminars on the major governmental institutions and systems in the United States, and visits to such institutions;

(B) Visits to school systems, institutions of higher education, and nonprofit organizations conducting exemplary programs in civics and government education, in the United States;

(C) Translations and adaptations with respect to United States civics and government education, curricular programs for students and teachers, and in the case of training programs for teachers, translations and adaptations into forms useful in schools in eligible countries, and joint research projects in such areas; and

(D) Independent research and evaluation assistance to determine the effects of the cooperative civic education exchange programs on students' development of the knowledge, skills, and traits of character essential for the preservation and improvement of constitutional democracy.

(2) Provide to the participants from the United States—

(A) Seminars on the histories and systems of government of eligible countries;

(B) Visits to school systems, institutions of higher education, and organizations conducting exemplary programs in civics and government education, located in eligible countries;

(C) Assistance from educators and scholars in eligible countries in the development of curricular materials on the history and government of such countries that are useful in United States classrooms;

(D) Opportunities to provide onsite demonstrations of United States curricula and pedagogy for educational leaders in eligible countries; and

(E) Independent research and evaluation assistance to determine the effects of the cooperative civic education exchange programs assisted through this grant on students' development of the knowledge, skills, and traits of character essential for the preservation and improvement of constitutional democracy.

(F) Assist participants from eligible countries and the United States to participate in international conferences on civics and government education for educational leaders, teacher trainers, scholars in related disciplines, and educational policymakers.

Absolute Priority 2—Economic Education

Each applicant that proposes to carry out a cooperative economic exchange program must propose to carry out each of the following activities:

(1) Provide to the participants from eligible countries—

(A) Seminars on the basic principles of the economic system in the United States, including seminars on the economic institutions in the United States, and visits to such institutions;

(B) Visits to school systems, institutions of higher education, and nonprofit organizations conducting exemplary programs in economic education, in the United States;

(C) Translations and adaptations with respect to United States economic education, curricular programs for students and teachers, and in the case of training programs for teachers, translations and adaptations into forms useful in schools in eligible countries, and joint research projects in such areas; and

(D) Independent research and evaluation assistance to determine the effects of the cooperative economic education exchange programs on students' ability to identify effective participation in, and the preservation and improvement of an efficient market economy.

(2) Provide to the participants from the United States—

(A) Seminars on the economies of eligible countries;

(B) Visits to school systems, institutions of higher education, and organizations conducting exemplary programs in economic education located in eligible countries;

(C) Assistance from educators and scholars in eligible countries in the development of curricular materials on the economy of such countries that are useful in United States classrooms;

(D) Opportunities to provide onsite demonstrations of United States curricula and pedagogy for educational leaders in eligible countries; and

(E) Independent research and evaluation assistance to determine the effects of the cooperative economic education exchange programs assisted through this grant on students' ability to identify effective participation in, and the preservation and improvement of an efficient market economy.

(F) Assist participants from eligible countries and the United States to participate in international conferences on economic education for educational leaders, teacher trainers, scholars in related disciplines, and educational policymakers.

Within the absolute priorities, we are particularly interested in applications that address the following invitational priority.

Invitational Priority: Under 34 CFR 75.105(c)(1) we do not give an application that meets this invitational priority a competitive or absolute preference over other applications.

This priority is:

Performance Data

We are particularly interested in projects that use pre- and post-intervention testing, or more rigorous methods, to measure the effects of the Cooperative Civic Education and Economic Education Exchange Program on the knowledge and skills of students and the classroom practice(s) of participating teachers.

Program Authority: 20 U.S.C. 6711-6716.

Applicable Regulations: The Education Department General Administrative Regulations (EDGAR) in 34 CFR parts 74, 75, 77, 79, 80, 81, 82, 84, 85, 86, 97, 98, and 99.

Note: The regulations in 34 CFR part 86 apply to institutions of higher education only.

II. Award Information

Type of Award: Discretionary grants.

Estimated Available Funds: $2,682,787.

Estimated Range of Awards: $700,000-$1,982,787.

Estimated Average Size of Awards: $1,341,393.

Estimated Number of Awards: 2.

Note: The Department is not bound by any estimates in this notice.

Project Period: Up to 36 months.

III. Eligibility Information

1. Eligible Applicants: Organizations in the United States experienced in the development of curricula and programs in civics and government education, or economic education for students in elementary schools and secondary schools in countries other than the United States.

2. Eligible Country: For the purpose of this grant competition, the term eligible country means a Central European country, an Eastern European country, Lithuania, Latvia, Estonia, the independent states of the former Soviet Union as defined in section 3 of the FREEDOM Support Act (22 U.S.C. 5801), the Republic of Ireland, the province of Northern Ireland in the United Kingdom, and any developing country (as such term is defined in section 209(d) of the Education for the Deaf Act (20 U.S.C. 4359a(d)) if the Secretary, with the concurrence of the Secretary of State, determines that such developing country has a democratic form of government. (See 20 U.S.C. 6715(g)).

A list of the countries is included in the application package.

3. Cost Sharing or Matching: This program does not require cost sharing or matching.

4. Other: Primary participants in the cooperative education exchange programs assisted through this grant shall be educational leaders in the areas of civic and government education, and economic education, including teachers, curriculum and teacher training specialists, scholars in relevant disciplines, educational policymakers, and government and private sector leaders from the United States and eligible countries. (See 20 U.S.C. 6715(d)).

IV. Application and Submission Information

1. Address to Request Application Package: Rita Foy Moss, U.S. Department of Education, 400 Maryland Avenue, SW., Potomac Center Plaza (PCP), Room 10006, Washington, DC 20202. Telephone: (202) 245-7866 or by e-mail: rita.foy.moss@ed.gov.

If you use a telecommunications device for the deaf (TDD), call the Federal Relay Service (FRS), toll free, at 1-800-877-8339.

Individuals with disabilities can obtain a copy of the application package in an accessible format (e.g., Braille, large print, audiotape, or computer diskette) by contacting the program contact person listed in this section.

2. Content and Form of Application Submission: Requirements concerning the content of an application, together with the forms you must submit, are in the application package for the Cooperative Civic Education and Economic Education Exchange Program competition.

Page Limit: The application narrative (Part III of the application is where you, the applicant, address the selection criteria that reviewers use to evaluate your application. You must limit the application narrative [Part III] to no more than 25 pages, using the following standards:

1. A “page” is 8.5″ × 11″, on one side only, with 1″ margins at the top, bottom, and both sides.

2. Double space (no more than three lines per vertical inch) all text in the application narrative, including titles, headings, footnotes, quotations, references, and captions, as well as all text in charts, tables, figures, and graphs.

3. Use a font that is either 12 point or larger or no smaller than 10 pitch (characters per inch).

4. Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, or the letters of support. However, the page limit does apply to all of the application narrative section [Part III].

Our reviewers will not read any pages of your application that exceed the page limit.

3. Submission Dates and Times:

Applications Available: January 20, 2010.

Deadline for Transmittal of Applications: March 8, 2010. Applications for grants under this competition may be submitted electronically using the Electronic Grant Application System (e-Application) accessible through the Department's e-Grants System, or in paper format by mail or hand delivery. For information (including dates and times) about how to submit your application electronically, or in paper format by mail or hand delivery, please refer to section IV.6. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: May 5, 2010.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

If you choose to submit your application to us electronically, you must use e-Application, accessible through the Department's e-Grants Web site at: http://e-grants.ed.gov.

While completing your electronic application, you will be entering data online that will be saved into a database. You may not e-mail an electronic copy of a grant application to us.

Please note the following:

• Your participation in e-Application is voluntary.

• You must complete the electronic submission of your grant application by 4:30:00 p.m., Washington, DC time, on the application deadline date. E-Application will not accept an application for this competition after 4:30:00 p.m., Washington, DC time, on the application deadline date.

Therefore, we strongly recommend that you do not wait until the application deadline date to begin the application process.

• The hours of operation of the e-Grants Web site are 6:00 a.m. Monday until 7:00 p.m. Wednesday; and 6:00 a.m. Thursday until 8:00 p.m. Sunday, Washington, DC time. Please note that, because of maintenance, the system is unavailable between 8:00 p.m. on Sundays and 6:00 a.m. on Mondays, and between 7:00 p.m. on Wednesdays and 6:00 a.m. on Thursdays, Washington, DC time. Any modifications to these hours are posted on the e-Grants Web site.

• You will not receive additional point value because you submit your application in electronic format, nor will we penalize you if you submit your application in paper format.

• You must submit all documents electronically, including all information you typically provide on the following forms: The Application for Federal Assistance (SF 424), the Department of Education Supplemental Information for SF 424, Budget Information—Non-Construction Programs (ED 524), and all necessary assurances and certifications. You must attach any narrative sections of your application as files in a .DOC (document), .RTF (rich text), or .PDF (Portable Document) format. If you upload a file type other than the three file types specified in this paragraph or submit a password-protected file, we will not review that material.

• Your electronic application must comply with any page limit requirements described in this notice.

• Prior to submitting your electronic application, you may wish to print a copy of it for your records.

After you electronically submit your application, you will receive an automatic acknowledgment that will include a PR/Award number (an identifying number unique to your application).

• Within three working days after submitting your electronic application, fax a signed copy of the SF 424 to the program contact listed under FOR FURTHER INFORMATION CONTACT in section VII of this notice.

• We may request that you provide us original signatures on forms at a later date.

Application Deadline Date Extension in Case of System Unavailability: If you are prevented from electronically submitting your application on the application deadline date because e-Application is unavailable, we will grant you an extension of one business day to enable you to transmit your application electronically, by mail, or by hand delivery. We will grant this extension if—

(1) You are a registered user of e-Application and you have initiated an electronic application for this competition; and

(2)(a) E-Application is unavailable for 60 minutes or more between the hours of 8:30 a.m. and 3:30 p.m., Washington DC time, on the application deadline date; or

(b) E-Application is unavailable for any period of time between 3:30 p.m. and 4:30:00 p.m., Washington, DC time, on the application deadline date.

We must acknowledge and confirm these periods of unavailability before granting you an extension. To request this extension or to confirm our acknowledgement of any system unavailability, you may contact either (1) the person listed elsewhere in this notice under FOR FURTHER INFORMATION CONTACT (see VII. Agency Contact) or (2) the e-Grants help desk at 1-888-336-8930. If e-Application is unavailable due to technical problems with the system and, therefore, the application deadline is extended, an e-mail will be sent to all registered users who have initiated an e-Application.

Extensions referred to in this section apply only to the unavailability of e-Application. If e-Application is available, and, for any reason, you are unable to submit your application electronically or you do not receive an automatic acknowledgment of your submission, you may submit your application in paper format by mail or hand delivery in accordance with the instructions in this notice.

b. Submission of Paper Applications by Mail.

If you submit your application in paper format by mail (through the U.S. Postal Service or a commercial carrier), you must mail the original and two copies of your application, on or before the application deadline date, to the Department at the following address: U.S. Department of Education, Application Control Center, Attention: (CFDA Number 84.304A) LBJ Basement Level 1, 400 Maryland Avenue, SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Application by Hand Delivery.

If you submit your application in paper format by hand delivery, you (or a courier service) must deliver the original and two copies of your application by hand, on or before the application deadline date, to the Department at the following address: U.S. Department of Education, Application Control Center Attention: (CFDA Number 84.304A) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

Selection Criteria: The selection criteria for this program are from 34 CFR 75.210 in EDGAR and are listed in the application package.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measure: If funded, applicants will be expected, consistent with one of the statutory purposes of this program (see 20 U.S.C. 6715(b)(5)(A)), to provide information on the results of any independent research and evaluation assistance supported to determine the effects of the Cooperative Civic Education and Economic Education Exchange Program on students' development of the knowledge, skills, and traits of character essential for the preservation and improvement of constitutional democracy and market economies. In addition, funded applicants responding to the Invitational Priority are encouraged to collect and submit data on the effects of the program on the knowledge and skills of students, and the classroom practice(s) of participating teachers.

VII. Agency Contact

For Further Information Contact: Rita Foy Moss, U.S. Department of Education, 400 Maryland Avenue, SW., PCP, room 10006, Washington, DC 20202. Telephone: (202) 245-7866, FAX: (202) 485-0013 or by e-mail: rita.foy.moss@ed.gov.

If you use a TDD, call the FRS, toll free, at 1-800-877-8339.

VIII. Other Information

Accessible Format: Individuals with disabilities can obtain this document and a copy of the application package in an accessible format (e.g., braille, large print, audiotape, or computer diskette) on request to the contact person listed under FOR FURTHER INFORMATION CONTACT in section VII of this notice.

Electronic Access to This Document: You can view this document, as well as all other documents of this Department published in the Federal Register, in text or Adobe Portable Document Format (PDF) on the Internet at the following site: http://www.ed.gov/news/fedregister. To use PDF you must have Adobe Acrobat Reader, which is available free at this site.

Note: The official version of this document is the document published in the Federal Register. Free Internet access to the official edition of the Federal Register and the Code of Federal Regulations is available on GPO Access at: http://www.gpoaccess.gov/nara/index.html.

Dated: January 14, 2010.
Kevin Jennings,
Assistant Deputy Secretary for Safe and Drug-Free Schools.

[FR Doc. 2010-965 Filed 1-19-10; 8:45 am]

BILLING CODE 4000-01-P